SECURITIES AND EXCHANGE COMMISSION

Requests Under Review by Office of Management and Budget

Upon Written Request, Copies Available From: Securities and Exchange Commission, Office of Filings and Information Services, Washington, DC 20549.

Extension:

Rule 15c1-5, SEC File No. 270-422, OMB Control No. 3235-0471

Rule 15c1-6, SEC File No. 270-423, OMB Control No. 3235-0472

Notice is hereby given that pursuant to the Paperwork Reduction Act of 1995 (44 U.S.C. 3501 et seq.), the Securities and Exchange Commission (“Commission”) has submitted to the Office of Management and Budget requests for approval of extension on the following:

Rule 15c1-5 ((17 CFR 240.15c1-5) states that any broker-dealer controlled by, controlling, or under common control with the issuer of a security that the broker-dealer is trying to sell to or buy from a customer must give the customer written notification disclosing the control relationship at or before completion of the transaction. The Commission estimates that 360 respondents collect information annually under Rule 15c1-5 and that approximately 3,600 hours would be required annually for these collections.

There is no retention period requirement under Rule 15c1-5. This Rule does not involve the collection of confidential information.

Rule 15c1-6 (17 CFR 240.15c1-6) states that any broker-dealer trying to sell to or buy from a customer a security in a primary or secondary distribution in which the broker-dealer is participating or is otherwise financially interested must give the customer written notification of the broker-dealer's participation or interest at or before completion of the transaction. The Commission estimates that 725 respondents collect information annually under Rule 15c1-6 and that approximately 7,250 hours would be required annually for these collections.

There is no retention period requirement under Rule 15c1-6. This Rule does not involve the collection of confidential information.

Please note that an agency may not conduct or sponsor, and a person is not required to, a collection of information unless it displays a currently valid control number.

General comments regarding the estimated burden hours should be directed to the Desk Officer for the Securities and Exchange Commission at the address below. Any comments concerning the accuracy of the estimated average burden hours for compliance with Commission rules and forms should be directed to Michael E. Bartell, Associate Executive Director, Office of Information Technology, Securities and Exchange Commission, 450 Fifth Street, NW., Washington, DC 20549 and Desk Officer for the Securities and Exchange Commission, Office of Information and Regulatory Affairs, Room 10202, Office of Management and Budget, 725 17th St., NW., Washington, DC 20503. Comments must be submitted to OMB within 30 days of this notice.

Dated: August 9, 2002.
Margaret H. McFarland,
Deputy Secretary.

[FR Doc. 02-20768 Filed 8-14-02; 8:45 am]

BILLING CODE 8010-01-P